FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

AMS Container Line, Inc. (NVO), 126 Orion Road, Piscataway, NJ 08854, Officers:, Inderpal S. Khokhar, President (QI), Pritpaul Singh, Secretary, Application Type: Add OFF Service.

Anchor Trade Service, LLC (OFF), 2550 Jacobs Court, NE, Marietta, GA 30068, Officer:, Ping (Sara as English Name) G. Liao, Member/Manager (QI), Application Type: New OFF License.

Dal Farra Company, Inc. (NVO & OFF), 1465 NW 97th Avenue, Doral, FL 33172, Officers:, Judith Dal Farra, President (QI), Paolo Dal Farra, Vice President, Application Type: QI Change.

Gold Coast Shipping, LLC (NVO & OFF), 2964 Main Street, Hartford, CT 06120, Officer:, Michael A. Wiafe, Member (QI), Application Type: Name Change to Gold Coast Shipping & SGF Freight, LLC.

Offshore Logistics, L.L.C. (NVO), 400 W. Knight Road, McDonough, GA 30252, Officers:, Dennis H. Jones, Operating Manager (QI), Gregory M. Hinton, Operating Manager, Application Type: QI Change.

Safe Movers, Inc. dba Isaac's Relocation Service (NVO & OFF), 181 Campanelli Parkway, Stoughton, MA 02072, Officers:, Yizhaq Edry, Treasurer (QI), Ami Joseph, President, Application Type: Change Trade Name to Isaac's Moving & Storage.

U.S.A. Cargo Corp. (NVO & OFF), 7950 NW 77th Street, Unit 1, Miami, FL 33166, Officers:, Javier F. Isasi, Secretary (QI), Victoria M. Pineiro, Vice President, Application Type: New NVO & OFF License.

By the Commission.
Dated: September 20, 2013.
Karen V. Gregory,
Secretary.

[FR Doc. 2013-23378 Filed 9-25-13; 8:45 am]

BILLING CODE 6730-01-P